Title 3—

The President

Proclamation 7940 of October 6, 2005

German-American Day, 2005

By the President of the United States of America

A Proclamation

German Americans have played an important role in establishing America as a land where liberty is protected for all of its citizens. Each year on German-American Day, we celebrate the contributions the millions of Americans of German descent have made to our great Nation.

Among the early German immigrants, many saw America as a beacon of religious freedom and an opportunity for an improved standard of living. German immigrants helped pioneer the first American colony at Jamestown. Frederick Augustus Muhlenberg served as the first Speaker of the House of Representatives; in this role, he certified the final version of the Bill of Rights.

Throughout our country's history, men and women of German descent have worn the uniform of the United States military to defend our country's freedom. Among these were Admiral Chester Nimitz, Commander in Chief of the United States Pacific Fleet during World War II, and General Dwight D. Eisenhower, who went on to become one of America's Presidents of German ancestry. Today, German-American troops continue to serve proudly in our Nation's Armed Forces.

German Americans have enriched many other aspects of American life. Albert Einstein's advancements in the field of physics help define our understanding of the universe. Theodor Seuss Geisel, more commonly known as Dr. Seuss, has captivated the imaginations of children for generations with his timeless classics. Baseball great Lou Gehrig's courage on and off the field continues to inspire the American spirit more than 60 years after his death.

On German-American Day, we also honor the important friendship between the United States and Germany. Our nations share beliefs in human rights and dignity, and on this day, I join all Americans in celebrating the bonds that tie our two nations and in reaffirming the importance of our continuing friendship.

NOW, THEREFORE, I, GEORGE W. BUSH, President of the United States of America, by virtue of the authority vested in me by the Constitution and laws of the United States, do hereby proclaim October 6, 2005, as German-American Day. I encourage all Americans to celebrate the many contributions German Americans have made to our Nation's liberty and prosperity.

IN WITNESS WHEREOF, I have hereunto set my hand this sixth day of October, in the year of our Lord two thousand five, and of the Independence of the United States of America the two hundred and thirtieth.

B

[FR Doc. 05-20485

Filed 10-7-05; 9:28 am]

Billing code 3195-01-P